DEPARTMENT OF AGRICULTURE

Rural Utilities Service

Rural Utilities Service Guarantees for Bonds and Notes Issued for Electrification or Telephone Purposes

AGENCY: Rural Utilities Service, USDA.

ACTION: Notice of intent to publish Fiscal Year 2016 application requirements and application deadlines for Rural Utilities Service Guarantees for Bonds and Notes Issued for Electrification or Telephone Purposes.

SUMMARY: The Rural Utilities Service (RUS) is hereby giving notice that it intends to publish in the near future a notice of solicitation for Fiscal Year 2016 (the “Notice of Solicitation for Applications”) specifying the timeframe for the submission of applications and program requirements for cooperative and other not-for-profit lenders wishing to participate in RUS's program involving the guarantee of loans for eligible electrification and telephone purposes, as authorized by Section 313A of the Rural Electrification Act of 1936, as amended (7 U.S.C. 940c-1) (the “Act”) and 7 CFR part 1720 (the “Program Regulations”).

DATES: It is anticipated that the Notice of Solicitation for Applications will be published in early 2016.

ADDRESSES: For detailed information regarding this notice, contact Amy McWilliams, Management Analyst, Office of Portfolio Management and Risk Assessment, Electric Program, Rural Utilities Service, United States Department of Agriculture, 1400 Independence Avenue SW., Room 0226-S, Washington, DC 20250-1568. Telephone (202) 205-8663; email: amy.mcwilliams@wdc.usda.gov

SUPPLEMENTARY INFORMATION: The proceeds of the guaranteed bonds will be used by the guaranteed lender to make loans to borrowers for electrification or telephone purposes eligible for assistance under the Act, the Program Regulations, and the Notice of Solicitation for Applications, or to refinance bonds or notes previously issued by the guaranteed lender for such purposes. The proceeds of the guaranteed bonds are not to be used by the guaranteed lender to directly or indirectly fund projects for the generation of electricity.

In order to promote competition and facilitate its review process, RUS will only accept applications: (1) Prepared in accordance with the Act, the Program Regulations, and the program requirements to be published in the Notice of Solicitation for Applications, and (2) submitted during the application period to be established by the forthcoming Notice of Solicitation for Applications.

Authority: 7 U.S.C. 940c-1.

Dated: December 30, 2015.
Brandon McBride,
Administrator, Rural Utilities Service.

[FR Doc. 2015-33285 Filed 1-5-16; 8:45 am]

BILLING CODE P